DEPARTMENT OF COMMERCE

Patent and Trademark Office

[Docket No. PTO-P-2023-0008]

Elimination of the Postal Postcard in the Patent Center Electronic Office Action Program

AGENCY: United States Patent and Trademark Office, Department of Commerce.

ACTION: Notice.

SUMMARY: The United States Patent and Trademark Office (USPTO or Office) transitioned to the Patent Center Electronic Office (e-Office) Action program in April 2023. The Patent Center e-Office Action program is designed to modernize the e-Office action process and further streamline the USPTO's service delivery processes. The USPTO furnishes a courtesy postcard to Patent Center e-Office Action program users as a reminder when there are available USPTO communications that have not been viewed or downloaded after a period of time. With the transition, the USPTO introduced a new option to receive the courtesy postcard by email (e-postcards) rather than by postal mail (postal postcards). In view of the new option to receive e-postcards, the USPTO requested public comments on eliminating the postal postcard for all Patent Center e-Office Action program users. The USPTO is now eliminating the postal postcard as an option for all Patent Center e-Office Action program users.

DATES: The option to receive a courtesy postal postcard under the Patent Center e-Office Action program will no longer be available as of October 20, 2023. Patent Center e-Office Action program users may manually opt in to receiving e-postcards prior to that date. As of October 20, 2023, e-postcards will be the only option for the courtesy postcard, and the USPTO will automatically switch over any Patent Center e-Office Action program users who have not already opted in to receiving e-postcards. The USPTO will continue to mail postal postcards for seven days after October 20, 2023 for any unviewed correspondence in the queue as of October 20, 2023 for those program users who were receiving postal postcards prior to that date.

FOR FURTHER INFORMATION CONTACT: Eugenia A. Jones, Senior Legal Advisor, Office of Patent Legal Administration, at 571-272-7727; or Kristie A. Mahone, Senior Legal Advisor, Office of Patent Legal Administration, at 571-272-9016; or patentpractice@uspto.gov. For technical questions, please contact the Patent Electronic Business Center (EBC) at 1-866-217-9197 (toll-free), 571-272-4100 (local), or ebc@uspto.gov. The Patent EBC is open from 6 a.m. to midnight ET, Monday-Friday.

SUPPLEMENTARY INFORMATION: In April 2023, the USPTO migrated all participants from the Private PAIR e-Office Action program to the Patent Center e-Office Action program. The USPTO informed the public of the migration in advance. See Patent Center Electronic Office Action Program, 88 FR 20138 (Apr. 5, 2023) (April 2023 Notice).

Under the current Patent Center e-Office Action program, users have the option to receive either a courtesy postal postcard through the United States Postal Service or a courtesy e-postcard by email. Courtesy reminder postcards are sent when none of the Office communications listed in the email notification have been viewed or downloaded in Patent Center within seven calendar days after the date of the notification and at least one of the listed Office communications requires the applicant's reply. In the April 2023 Notice, the USPTO requested comments on eliminating the courtesy postal postcard as an option. The USPTO received one comment in response to the request for comments. The commenter did not express any views on eliminating the postal postcard and only made a general comment about Patent Center.

The USPTO has determined that maintaining postal postcards is not necessary. Eliminating the postal postcard will reduce paper waste and mitigate the impact of potential postal delays. Furthermore, exclusively using e-postcards will enable the USPTO to continue to furnish courtesy reminders while more effectively streamlining service delivery processes. Therefore, the USPTO is eliminating the postal postcard as an option for all Patent Center e-Office Action program users. Instead, the USPTO will send a courtesy e-postcard notifying Patent Center e-Office Action program users if none of the Office communications listed in the email notification are viewed or downloaded through Patent Center within seven calendar days after the date of the email notification and at least one of the Office communications requires an applicant's reply. The USPTO will email courtesy e-postcards to the same email addresses assigned to the Customer Number for the correspondence address.

Participation in the Patent Center e-Office Action program will continue to be optional. Additional information on the Patent Center e-Office Action Program is available at www.uspto.gov/patents/apply/checking-application-status/e-office-action-program.

Katherine K. Vidal,
Under Secretary of Commerce for Intellectual Property and Director of the United States Patent and Trademark Office.

[FR Doc. 2023-20351 Filed 9-19-23; 8:45 am]

BILLING CODE 3510-16-P